DEPARTMENT OF THE INTERIOR

Bureau of Land Management

[LLWYP070000; L14300000.EU0000; WYW-168342]

Notice of Realty Action: Proposed (Non-Competitive) Direct Sale of Public Lands in Sheridan County, WY

AGENCY: Bureau of Land Management, Interior.

ACTION: Notice of Realty Action.

SUMMARY: The Bureau of Land Management (BLM) is considering eight parcels of public land totaling 208.12 acres in Sheridan County, Wyoming, for direct sale under the provisions of the Federal Land Policy Management Act of 1976 (FLPMA), at no less than the appraised fair market value.

DATES: In order to ensure consideration in the environmental analysis of the proposed sale, comments must be received by March 21, 2013.

ADDRESSES: Address all comments concerning this notice to Field Manager, Bureau of Land Management (BLM), Buffalo Field Office, 1425 Fort Street, Buffalo, WY 82834. Comments may also be emailed to buffalo_wymail@blm.gov.

FOR FURTHER INFORMATION CONTACT: Claire Oliverius, Realty Specialist, BLM, Buffalo Field Office at the above address or phone 307-684-1178.

SUPPLEMENTARY INFORMATION: The following-described public land in Sheridan County, Wyoming, is being considered for direct sale under the authority of Section 203 FLPMA, (90 Stat. 2750, 43 U.S.C. 1713):

Sixth Principal Meridian

T. 56 N., R. 79 W.,

Tract 51 B;

Sec. 17, lot 1;

Sec. 23, lot 1;

Sec. 26, lots 1 and 2.

T. 55 N., R. 80 W.,

Sec. 23, NE1/4SE1/4;

Sec. 24, SW1/4SW1/4;

Sec. 26, NE1/4SW1/4.

The areas described aggregate 208.12 acres in Sheridan County, Wyoming.

The 1985 BLM Buffalo Resource Management Plan identifies these parcels of public land as suitable for disposal. Conveyance of the identified public land will be subject to valid existing rights and encumbrances of record, including but not limited to, rights-of-way for roads and public utilities.

Farmland Reserve, Inc., has submitted a formal proposal for the acquisition of 208.12 acres of public land in Sheridan County. A direct sale was initiated to purchase only lands solely within the boundaries of a ranch where there is no legal access or adjacent landowners. The parcels are difficult for the BLM to manage. The lands would continue to be used for ranching operations. The proposed sale of the identified public land is in the initial stages of processing.

On February 4, 2013, the above-described land will be segregated from appropriation under the public land laws, including the mining laws, except the sale provisions of the FLPMA. Until completion of the sale, the BLM is no longer accepting land use applications affecting the identified public land, except applications for the amendment of previously-filed right-of-way applications or existing authorizations to increase the term of the grants in accordance with 43 CFR 2807.15 and 2886.15. The segregative effect will terminate upon issuance of a patent, publication in the Federal Register of a termination of the segregation, or February 4, 2015, unless extended by the BLM State Director in accordance with 43 CFR 2711.1-2(d) prior to the termination date.

Public Comments

For a period until March 21, 2013, interested parties and the general public may submit in writing any comments concerning the land being considered for sale, including notification of any encumbrances or other claims relating to the identified land, to Field Manager, BLM Buffalo Field Office, at the above address. In order to ensure consideration in the environmental analysis of the proposed sale, comments must be in writing and postmarked or delivered within 45 days of the initial date of publication of this Notice. Comments transmitted via email will not be accepted. Comments, including names and street addresses of respondents, will be available for public review at the BLM Buffalo Field Office during regular business hours, except holidays. Before including your address, phone number, email address, or other personal identifying information in your comment, be advised that your entire comment—including your personal identifying information—may be made publicly available at any time. While you may ask us in your comment to withhold from public review your personal identifying information, we cannot guarantee that we will be able to do so.

Authority: 43 CFR 2711.

Donald A. Simpson,
State Director, Wyoming.

[FR Doc. 2013-02360 Filed 2-1-13; 8:45 am]

BILLING CODE 4310-22-P